Proclamation 8971 of April 30, 2013

Older Americans Month, 2013

By the President of the United States of America

A Proclamation

For half a century, communities in every corner of our country have come together to honor older Americans in a special way during the month of May. We carry that tradition forward again this year by recognizing their accomplishments, sharing their stories, and showing support and appreciation for our elders.

With groundbreaking advances in medicine and health care, Americans are living longer and achieving more. Many seniors are using a lifetime of experience to serve those around them. Even after decades of hard work, men and women are taking on new roles after retirement—organizing, educating, innovating, and making sure they leave the next generation with the same opportunities they had. It is a commitment that shines brightly in programs like Senior Corps, which connects more than half a million people to service opportunities from coast to coast.

As older Americans strive to lift up their neighborhoods, my Administration is working to make sure they get the tools they need to make a difference. We are helping more seniors get involved in volunteer service and give back to those around them. We are also finding new ways to make sure seniors live with dignity as full members of their communities—from improving access to health care to broadening employment opportunities. And to ensure older Americans have resources they can count on, my Administration will continue to protect and strengthen Medicare and Social Security not just for this generation, but also for those to come.

Our seniors deserve the best our country has to offer. This month, we pay tribute to the men and women who raised us, and we pledge anew to show them the fullest care, support, and respect of a grateful Nation.

NOW, THEREFORE, I, BARACK OBAMA, President of the United States of America, by virtue of the authority vested in me by the Constitution and the laws of the United States, do hereby proclaim May 2013 as Older Americans Month. I call upon all Americans of all ages to acknowledge the contributions of older Americans during this month and throughout the year.

IN WITNESS WHEREOF, I have hereunto set my hand this thirtieth day of April, in the year of our Lord two thousand thirteen, and of the Independence of the United States of America the two hundred and thirty-seventh.

[FR Doc. 2013-10753

Filed 5-2-13; 11:15 am]

Billing code 3295-F3